DEPARTMENT OF COMMERCE

Foreign-Trade Zones Board

[Order No. 1312]

Expansion of Foreign-Trade Zone 82; Mobile, AL, Area

Pursuant to its authority under the Foreign-Trade Zones Act of June 18, 1934, as amended (19 U.S.C. 81a-81u), the Foreign-Trade Zones Board (the Board) adopts the following Order:

Whereas, the City of Mobile, grantee of Foreign-Trade Zone 82, submitted an application to the Board for authority to expand FTZ 82-Site 1 and to include twelve additional sites (Sites 2-13) in the Mobile, Alabama, area, within the Mobile Customs port of entry (FTZ Docket 19-2003; filed 4/11/03);

Whereas, notice inviting public comment was given in the Federal Register (68 FR 19498, 4/21/03) and the application has been processed pursuant to the FTZ Act and the Board's regulations; and,

Whereas, the Board adopts the findings and recommendations of the examiner's report, and finds that the requirements of the FTZ Act and Board's regulations are satisfied, and that the proposal, with respect to Sites 1 through 12, is in the public interest;

Now, therefore, the Board hereby orders:

The application to expand FTZ 82 (Sites 1-12) is approved (but not proposed Site 13), subject to the Act and the Board's regulations, including § 400.28, subject to the Board's standard 2,000-acre activation limit for the overall zone project, and further subject to a sunset provision that would terminate authority for the proposed sites on January 31, 2011, unless the sites are activated under FTZ procedures.

Signed at Washington, DC, this 19th day of December, 2003.
James J. Jochum,
Assistant Secretary of Commerce for Import Administration, Alternate Chairman, Foreign-Trade Zones Board.

Attest:
Dennis Puccinelli,
Executive Secretary.

[FR Doc. 03-32295 Filed 12-31-03; 8:45 am]

BILLING CODE 3510-DS-P